DEPARTMENT OF THE INTERIOR

Bureau of Indian Affairs

[189A2100DD/AAKC001030/A0A51010.999900]

Notice To Acquire Land Into Trust for the Tohono O'odham Nation of Arizona

AGENCY: Bureau of Indian Affairs, Interior.

ACTION: Notice of final agency determination.

SUMMARY: The Assistant Secretary—Indian Affairs made a final determination to acquire 81.31 acres, more or less into trust for the Tohono O'odham Nation of Arizona on August 22, 2018.

FOR FURTHER INFORMATION CONTACT: Ms. Sharlene M. Round Face, Bureau of Indian Affairs, Division of Real Estate Services, 1849 C Street NW, MS-4642-MIB, Washington, DC 20240, telephone (202) 208-3615.

SUPPLEMENTARY INFORMATION: This notice is published in the exercise of authority delegated by the Secretary of the Interior to the Assistant Secretary—Indian Affairs by part 209 of the Departmental Manual, and is published to comply with the requirement of 25 CFR 151.12(c)(2)(ii) that notice of the decision to acquire land in trust be promptly published in the Federal Register.

On August 22, 2018, the Assistant Secretary—Indian Affairs issued a decision to accept approximately 81.31 acres, more or less, of land in trust for Tohono O'odham Nation of Arizona under the authority of the Gila Bend Indian Reservation Lands Replacement Act, Public Law 99-503, 100 Stat. 1798 (1986). Subject lands will become part of the Gila Bend Indian Reservation.

The Western Regional Director, on behalf of the Secretary of the Interior, will immediately acquire title in the name of the United States of America in trust for the Tohono O'odham Nation of Arizona upon fulfillment of Departmental requirements.

Legal Description

Parcel No. 1

THAT PART OF THE NORTHEAST QUARTER OF SECTION 4, TOWNSHIP 2 NORTH, RANGE 1 EAST OF THE GILA AND SALT RIVER BASE AND MERIDIAN, MARICOPA COUNTY, ARIZONA, DESCRIBED AS FOLLOWS:

COMMENCING AT THE NORTHEAST CORNER OF SAID SECTION 4;

THENCE WEST, ALONG THE NORTH LINE OF SAID SECTION 4, 1052.24 FEET;

THENCE SOUTH 01 DEGREES 44 MINUTES 12 SECONDS WEST, 40.02 FEET TO THE POINT OF BEGINNING;

THENCE ALONG THE WESTERLY AND SOUTHERLY LINES OF THAT PARCEL DESCRIBED IN INSTRUMENT RECORDED MARCH 07, 1984 IN RECORDING NO. 84-094506 OF OFFICIAL RECORDS, SOUTH 01 DEGREES 44 MINUTES 12 SECONDS WEST, 1319.58 FEET;

THENCE NORTH 89 DEGREES 50 MINUTES 32 SECONDS EAST, 386.11 FEET TO A POINT ON THE EAST LINE OF THE WEST HALF OF THE EAST HALF OF THE SOUTH HALF OF SAID NORTHEAST QUARTER;

THENCE LEAVING THE SOUTHERLY LINE OF THE AFOREMENTIONED PARCEL, SOUTH 01 DEGREES 45 MINUTES 56 SECONDS WEST, ALONG THE EAST LINE OF THE WEST HALF OF THE EAST HALF OF THE SOUTH HALF OF SAID NORTHEAST QUARTER, 1206.09 FEET TO A POINT ON THE SOUTH LINE OF SAID NORTHEAST QUARTER;

THENCE SOUTH 89 DEGREES 45 MINUTES 05 SECONDS WEST, ALONG THE SOUTH LINE OF SAID NORTHEAST QUARTER, 994.48 FEET TO THE SOUTHWEST CORNER OF THE EAST HALF OF THE EAST HALF OF THE WEST HALF OF SAID NORTHEAST QUARTER;

THENCE NORTH 01 DEGREES 40 MINUTES 44 SECONDS EAST, ALONG THE WEST LINE OF THE EAST HALF OF THE EAST HALF OF THE WEST HALF OF SAID NORTHEAST QUARTER, AND ALONG THE WEST LINE OF THE EAST HALF OF THE EAST HALF OF LOT 2 OF SAID SECTION 4, 2528.82 FEET TO A POINT ON A LINE THAT IS 40.00 FEET SOUTH OF, AND PARALLEL TO, THE NORTH LINE OF SAID NORTHEAST QUARTER OF SECTION 4;

THENCE EAST, ALONG A LINE THAT IS 40.00 FEET SOUTH OF, AND PARALLEL TO, THE NORTH LINE OF SAID NORTHEAST QUARTER OF SECTION 4, 611.42 FEET TO THE POINT OF BEGINNING;

EXCEPT A PARCEL OF LAND LYING WITHIN SAID NORTHEAST QUARTER OF SECTION 4, AND BEING A PORTION OF THAT CERTAIN PARCEL DESCRIBED IN RECORDING NO. 87-251242 OF OFFICIAL RECORDS, DESCRIBED AS FOLLOWS:

COMMENCING AT THE NORTH QUARTER CORNER OF SAID SECTION 4;

THENCE NORTH 88 DEGREES 40 MINUTES 25 SECONDS EAST, ALONG THE NORTH LINE OF SAID NORTHEAST QUARTER, 998.19 FEET;

THENCE SOUTH 00 DEGREES 09 MINUTES 14 SECONDS WEST, 40.01 FEET TO THE NORTHWEST CORNER OF SAID PARCEL ON THE SOUTH LINE OF THE NORTH 40.00 FEET OF SAID NORTHEAST QUARTER AND THE POINT OF BEGINNING;

THENCE NORTH 88 DEGREES 40 MINUTES 25 SECONDS EAST, ALONG SAID SOUTH LINE, 611.23 FEET TO THE NORTHEAST CORNER OF SAID PARCEL;

THENCE SOUTH 00 DEGREES 24 MINUTES 37 SECONDS WEST, ALONG THE EAST LINE OF SAID PARCEL, 11.65 FEET TO A POINT ON THE SOUTH LINE OF THE NORTH 51.64 FEET OF SAID NORTHEAST QUARTER;

THENCE SOUTH 88 DEGREES 40 MINUTES 25 SECONDS WEST, ALONG SAID SOUTH LINE, 545.56 FEET;

THENCE SOUTH 66 DEGREES 15 MINUTES 59 SECONDS WEST, 43.03 FEET;

THENCE SOUTH 88 DEGREES 40 MINUTES 25 SECONDS WEST, 26.26 FEET TO A POINT ON THE WEST LINE OF SAID PARCEL;

THENCE NORTH 00 DEGREES 09 MINUTES 14 SECONDS EAST, ALONG SAID WEST LINE, 28.05 FEET TO THE POINT OF BEGINNING, AS CONVEYED TO MARICOPA COUNTY IN DEED RECORDED IN RECORDING NO. 99-649780 OF OFFICIAL RECORDS; AND

EXCEPT THAT PARCEL OF LAND LYING WITHIN SAID NORTHEAST QUARTER OF SECTION 4 AND BEING A PORTION OF THAT CERTAIN PARCEL DESCRIBED IN RECORDING NO. 95-490799 OF OFFICIAL RECORDS, DESCRIBED AS FOLLOWS;

COMMENCING AT THE NORTH QUARTER CORNER OF SAID SECTION 4;

THENCE NORTH 88 DEGREES 40 MINUTES 25 SECONDS EAST, ALONG THE NORTH LINE OF SAID SOUTHEAST QUARTER, 998.19 FEET;

THENCE SOUTH 00 DEGREES 09 MINUTES 14 SECONDS WEST, 40.01 FEET TO THE NORTHEAST CORNER OF SAID PARCEL ON THE SOUTH LINE OF THE NORTH 40.00 FEET OF SAID NORTHEAST QUARTER AND THE POINT OF BEGINNING;

THENCE SOUTH 00 DEGREES 09 MINUTES 14 SECONDS WEST, ALONG THE EAST LINE OF PARCEL, 28.05 FEET;

THENCE NORTH 68 DEGREES 29 MINUTES 09 SECONDS WEST, 42.26 FEET TO A POINT ON THE SOUTH LINE OF THE NORTH 51.64 FEET OF SAID NORTHEAST QUARTER;

THENCE SOUTH 88 DEGREES 40 MINUTES 25 SECONDS WEST, ALONG SAID SOUTH LINE, 455.83 FEET TO A POINT ON THE EAST LINE OF THAT PARCEL CONVEYED TO ARIZONA DEPARTMENT OF TRANSPORTATION IN RECORDING NO. 86-652262 OF OFFICIAL RECORDS;

THENCE NORTH 01 DEGREES 19 MINUTES 35 SECONDS WEST, ALONG SAID EAST LINE, 11.64 FEET TO A POINT ON THE SOUTH LINE OF THE NORTH 40.00 FEET OF SAID NORTHEAST QUARTER;

THENCE NORTH 88 DEGREES 40 MINUTES 25 SECONDS EAST, ALONG SAID SOUTH LINE, 495.50 FEET TO THE POINT OF BEGINNING, AS CONVEYED TO MARICOPA COUNTY IN DEED RECORDED IN RECORDING NO. 99-332877 OF OFFICIAL RECORDS; AND

EXCEPT THAT PORTION LYING WITHIN THE NORTH 33 FEET OF THE EAST HALF OF THE NORTHEAST QUARTER OF SAID SECTION 4, AS CONVEYED TO MARICOPA COUNTY, RECORDED IN BOOK 96 OF DEEDS, PAGE 375.

Parcel No. 2

THE EAST HALF OF THE EAST HALF OF THE NORTHEAST QUARTER OF SECTION 4, TOWNSHIP 2 NORTH, RANGE 1 EAST OF THE GILA AND SALT RIVER BASE AND MERIDIAN, MARICOPA COUNTY, ARIZONA;

EXCEPT A TRACT OF LAND FOR A WELL SITE DESCRIBED AS FOLLOWS:

BEGINNING AT THE SOUTHEAST CORNER OF SAID TRACT, 33.00 FEET WEST OF THE EAST QUARTER CORNER OF SAID SECTION 4;

THENCE NORTH 36.00 FEET TO THE NORTHEAST CORNER OF SAID TRACT;

THENCE WEST 30.00 FEET TO THE NORTHWEST CORNER OF SAID TRACT;

THENCE SOUTH 36.00 FEET TO THE SOUTHWEST CORNER OF SAID TRACT;

THENCE EAST 30.00 FEET TO THE POINT OF BEGINNING; AND

EXCEPT THAT PARCEL OF LAND LYING WITHIN SAID NORTHEAST QUARTER OF SECTION 4, AND BEING A PORTION OF THAT CERTAIN PARCEL DESCRIBED IN RECORDING NO. 88-089216 OF OFFICIAL RECORDS, DESCRIBED AS FOLLOWS:

COMMENCING AT THE NORTHEAST CORNER OF SAID SECTION 4:

THENCE SOUTH 88 DEGREES 40 MINUTES 25 SECONDS WEST, ALONG THE NORTH LINE OF SAID NORTHEAST QUARTER, 665.46 FEET;

THENCE SOUTH 00 DEGREES 01 MINUTES 25 SECONDS WEST, 55.01 FEET TO THE NORTHWEST CORNER OF SAID PARCEL ON THE SOUTH LINE OF THE NORTH 55.00 FEET OF SAID NORTHEAST QUARTER AND THE POINT OF BEGINNING;

THENCE NORTH 88 DEGREES 40 MINUTES 25 SECONDS EAST, ALONG SAID SOUTH LINE, 32.81 FEET;

THENCE SOUTH 67 DEGREES 10 MINUTES 25 SECONDS WEST, 35.59 FEET TO A POINT ON THE WEST LINE OF SAID PARCEL;

THENCE NORTH 00 DEGREES 01 MINUTES 25 SECONDS EAST, ALONG THE WEST LINE OF SAID PARCEL, 13.05 FEET TO THE POINT OF BEGINNING, AS CONVEYED TO MARICOPA COUNTY IN FINAL JUDGMENT IN CONDEMNATION IN CV 99-10315 RECORDED IN RECORDING NO. 2000122430, RECORDING NO. 20000209504, AND IN RECORDING NO. 20000218264; AND

EXCEPT THE NORTH 33.00 FEET AS CONVEYED TO MARICOPA COUNTY IN BOOK 96 OF DEEDS, PAGE 375; AND

EXCEPT THE EAST 33.00 FEET AS CONVEYED TO MARICOPA COUNTY IN DEED RECORDED AS BOOK 105 OF DEEDS, PAGE 382; AND

EXCEPT THE WEST 22.00 FEET OF THE EAST 55.00 FEET, AND THE SOUTH 22.00 FEET OF THE NORTH 55.00 FEET, AND BEGINNING AT THE POINT OF INTERSECTION OF THE SOUTH LINE OF THE NORTH 55.00 FEET AND THE WEST LINE OF THE EAST 55.00 FEET OF SAID EAST ONE-HALF OF THE EAST ONE-HALF OF THE NORTHEAST ONE-QUARTER OF SECTION 4;

THENCE SOUTH 15.00 FEET ALONG SAID WEST LINE OF THE EAST 55.00 FEET TO A POINT;

THENCE IN A NORTHWESTERLY DIRECTION TO A POINT ON SAID SOUTH LINE OF THE NORTH 55.00 FEET THAT IS 15.00 FEET WEST FROM SAID POINT OF INTERSECTION;

THENCE EAST TO THE POINT OF INTERSECTION AS CONVEYED TO MARICOPA COUNTY AS RECORDED IN RECORDING NO. 88-089217 OF OFFICIAL RECORDS.

Parcel No. 3

THE EAST HALF OF THE WEST HALF OF THE NORTHEAST QUARTER OF THE NORTHEAST QUARTER OF SECTION 4, TOWNSHIP 2 NORTH, RANGE 1 EAST OF THE GILA AND SALT RIVER BASE AND MERIDIAN, MARICOPA COUNTY, ARIZONA;

EXCEPT THE NORTH 33.00 FEET AS CONVEYED TO MARICOPA COUNTY IN BOOK 96 OF DEEDS, PAGE 375; AND

EXCEPT THE SOUTH 7.00 FEET OF THE NORTH 40.00 FEET THEREOF, AS DEEDED TO MARICOPA COUNTY BY QUIT CLAIM DEED RECORDED JULY 16 IN DOCKET 2539, PAGE 134; AND ALSO

EXCEPT A PART OF THE NORTHEAST QUARTER OF SECTION 4, TOWNSHIP 2 NORTH, RANGE 1 EAST OF THE GILA AND SALT RIVER BASE AND MERIDIAN, MARICOPA COUNTY, ARIZONA, MORE FULLY DESCRIBED AS FOLLOWS:

COMMENCING AT THE NORTHEAST CORNER OF SAID SECTION 4;

THENCE WEST ALONG THE NORTH LINE OF SAID SECTION A DISTANCE OF 715.49 FEET;

THENCE SOUTH 01 DEGREES 46 MINUTES 37 SECONDS WEST (MEASURED) SOUTH 01 DEGREES 45 MINUTES 56 SECONDS WEST (RECORD) A DISTANCE OF 40.02 FEET TO A POINT ON THE SOUTH RIGHT OF WAY LINE OF NORTHERN AVENUE AND THE TRUE POINT OF BEGINNING;

THENCE CONTINUING SOUTH 01 DEGREES 46 MINUTES 37 SECONDS WEST (MEASURED) SOUTH 01 DEGREES 45 MINUTES 56 SECONDS WEST (RECORD) A DISTANCE OF 362.00 FEET;

THENCE EAST A DISTANCE OF 50.00 FEET TO A POINT ON THE EAST LINE OF THE WEST HALF OF THE NORTHEAST QUARTER OF THE NORTHEAST QUARTER OF SAID SECTION 4;

THENCE SOUTH 01 DEGREES 46 MINUTES 37 SECONDS WEST (MEASURED) SOUTH 01 DEGREES 45 MINUTES 56 SECONDS WEST (RECORD) ALONG SAID EAST LINE A DISTANCE OF 864.48 FEET TO THE SOUTHEAST CORNER OF SAID WEST HALF OF THE NORTHEAST QUARTER OF THE NORTHEAST QUARTER;

THENCE SOUTH 89 DEGREES 51 MINUTES 13 SECONDS WEST (MEASURED) SOUTH 89 DEGREES 50 MINUTES 32 SECONDS WEST (RECORD) A DISTANCE OF 10.00 FEET;

THENCE SOUTH 01 DEGREE 45 MINUTES 56 SECONDS WEST A DISTANCE OF 92.05 FEET;

THENCE SOUTH 89 DEGREES 51 MINUTES 13 SECONDS WEST, A DISTANCE OF 376.13 FEET (MEASURED) SOUTH 89 DEGREES 50 MINUTES 32 SECONDS WEST A DISTANCE OF 376.11 FEET (RECORD);

THENCE NORTH 01 DEGREES 44 MINUTES 53 SECONDS EAST (MEASURED) NORTH 01 DEGREES 44 MINUTES 12 SECONDS EAST (RECORD) A DISTANCE OF 1319.58 FEET TO A POINT 40.02 FEET SOUTH OF THE NORTH SECTION LINE AND ON THE SOUTH RIGHT OF WAY LINE OF SAID NORTHERN AVENUE;

THENCE EAST ALONG SAID RIGHT OF WAY LINE A DISTANCE OF 336.74 FEET TO THE TRUE POINT OF BEGINNING.

Parcel No. 4

BEING A PARCEL OF LAND SITUATED IN THE NORTHEAST QUARTER OF SECTION 4, TOWNSHIP 2 NORTH, RANGE 1 EAST, OF THE GILA AND SALT RIVER BASE AND MERIDIAN, MARICOPA COUNTY, ARIZONA, BEING MORE PARTICULARLY DESCRIBED AS FOLLOWS:

COMMENCING AT THE NORTHEAST CORNER OF SAID SECTION 4;

THENCE WEST, ALONG THE NORTH LINE OF SAID SECTION 4, A DISTANCE OF 715.49 FEET;

THENCE SOUTH 01 DEGREES 46 MINUTES 37 SECONDS WEST (MEASURED), (SOUTH 01 DEGREES 45 MINUTES 56 SECONDS WEST RECORD) A DISTANCE OF 402.02 FEET;

THENCE EAST, A DISTANCE OF 50.02 FEET (MEASURED) (50.00 FEET RECORD) TO A POINT IN THE EAST LINE OF THE WEST HALF OF THE NORTHEAST QUARTER OF SAID SECTION 4;

THENCE ALONG SAID EAST LINE, SOUTH 01 DEGREES 46 MINUTES 37 SECONDS WEST, (MEASURED) (SOUTH 01 DEGREES 45 MINUTES 56 SECONDS WEST RECORD) A DISTANCE OF 864.48 FEET TO THE POINT OF BEGINNING;

THENCE SOUTH 89 DEGREES 51 MINUTES 13 SECONDS WEST, (MEASURED) (SOUTH 89 DEGREES 50 MINUTES 32 SECONDS WEST RECORD) A DISTANCE OF 10.00 FEET;

THENCE SOUTH 01 DEGREES 46 MINUTES 37 SECONDS WEST (MEASURED), (SOUTH 01 DEGREES 45 MINUTES 56 SECONDS WEST RECORD) A DISTANCE OF 92.13 FEET (MEASURED) (92.05 FEET RECORD);

THENCE NORTH 89 DEGREES 51 MINUTES 13 SECONDS EAST, A DISTANCE OF 10.00 FEET TO A POINT IN SAID EAST LINE OF THE WEST HALF OF THE NORTHEAST QUARTER OF SAID SECTION 4;

THENCE ALONG SAID EAST LINE, NORTH 01 DEGREES 46 MINUTES 37 SECONDS EAST, A DISTANCE OF 92.13 FEET TO THE POINT OF BEGINNING.

Dated: August 22, 2018.
Tara Sweeney,
Assistant Secretary—Indian Affairs.

[FR Doc. 2018-19730 Filed 9-10-18; 8:45 am]

BILLING CODE 4337-15-P